DEPARTMENT OF ENERGY

Federal Energy Regulatory Commission

Combined Notice of Filings #2

Take notice that the Commission received the following electric rate filings:

Docket Numbers: ER16-1912-002.

Applicants: Southwest Power Pool, Inc.

Description: Compliance filing: Out-of-Merit Energy Clarification Compliance Filing to be effective 8/10/2016.

Filed Date: 11/9/16.

Accession Number: 20161109-5117.

Comments Due: 5 p.m. ET 11/30/16.

Docket Numbers: ER17-328-000.

Applicants: Sierra Pacific Power Company.

Description: § 205(d) Rate Filing: Service Agreement No. 11-00052 SPPC-Patua to be effective 11/9/2016.

Filed Date: 11/9/16.

Accession Number: 20161109-5067.

Comments Due: 5 p.m. ET 11/30/16.

Docket Numbers: ER17-329-000.

Applicants: Midcontinent Independent System Operator, Inc.

Description: § 205(d) Rate Filing: 2016-11-09_SA 2871 NSP-North Star Solar 1st Rev. GIA (J385) to be effective 11/10/2016.

Filed Date: 11/9/16.

Accession Number: 20161109-5077.

Comments Due: 5 p.m. ET 11/30/16.

Docket Numbers: ER17-330-000.

Applicants: KCP&L Greater Missouri Operations Company.

Description: Notice of Cancellation of the Electric Interchange Agreement No. 54 of KCP&L Greater Missouri Operations Company.

Filed Date: 11/9/16.

Accession Number: 20161109-5078.

Comments Due: 5 p.m. ET 11/30/16.

Docket Numbers: ER17-331-000.

Applicants: KCP&L Greater Missouri Operations Company.

Description: Notice of Cancellation of the Electric Interchange Agreement No. 55 of KCP&L Greater Missouri Operations Company.

Filed Date: 11/9/16.

Accession Number: 20161109-5081.

Comments Due: 5 p.m. ET 11/30/16.

Docket Numbers: ER17-332-000.

Applicants: KCP&L Greater Missouri Operations Company.

Description: Notice of Cancellation of the Electric Interchange Agreement No. 56 of KCP&L Greater Missouri Operations Company.

Filed Date: 11/9/16.

Accession Number: 20161109-5084.

Comments Due: 5 p.m. ET 11/30/16.

Docket Numbers: ER17-333-000.

Applicants: KCP&L Greater Missouri Operations Company.

Description: Notice of Cancellation of the Electric Interchange Agreement No. 58 of KCP&L Greater Missouri Operations Company.

Filed Date: 11/9/16.

Accession Number: 20161109-5086.

Comments Due: 5 p.m. ET 11/30/16.

Docket Numbers: ER17-334-000.

Applicants: KCP&L Greater Missouri Operations Company.

Description: Notice of Cancellation of the Electric Interchange Agreement No. 109 of KCP&L Greater Missouri Operations Company.

Filed Date: 11/9/16.

Accession Number: 20161109-5087.

Comments Due: 5 p.m. ET 11/30/16.

Docket Numbers: ER17-335-000.

Applicants: PJM Interconnection, L.L.C.

Description: § 205(d) Rate Filing: Rev to OATT RE: Release of Capacity in 17/18 Third Scheduled Incremental Auction to be effective 1/9/2017.

Filed Date: 11/9/16.

Accession Number: 20161109-5107.

Comments Due: 5 p.m. ET 11/30/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 9, 2016.
Nathaniel J. Davis, Sr.,
Deputy Secretary.

[FR Doc. 2016-27485 Filed 11-15-16; 8:45 am]

BILLING CODE 6717-01-P